INTERNATIONAL TRADE COMMISSION

[USITC Se-13-029]

Government in the Sunshine Act Meeting Notice

AGENCY HOLDING THE MEETING: United States International Trade Commission.

TIME AND DATE: November 13, 2013 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-909 (Second Review) (Low-Enriched Uranium from France). The Commission is currently scheduled to complete and file its determinations on or before November 26, 2013; Commissioners' opinions will be issued on November 26, 2013.

5. Outstanding action jackets: none.

In accordance with Commission policy, subject matter listed above, not disposed of at the scheduled meeting, may be carried over to the agenda of the following meeting. Earlier notification of this meeting was not possible.

By order of the Commission.
Issued: November 6, 2013.
William R. Bishop,
Supervisory Hearings and Information Officer.

[FR Doc. 2013-27079 Filed 11-7-13; 11:15 am]

BILLING CODE 7020-02-P